FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501, et seq.), the FDIC hereby gives notice that it is submitting to the Office of Management and Budget (OMB) a request for OMB review and approval of the new information collection described below. The collection would provide information on the efforts of FDIC-insured depository institutions to meet the financial services needs of individuals who do not have an account at a bank or credit union (the “unbanked”), and individuals who have a deposit account but also rely on alternative, non-bank financial service providers for transaction or credit services (the “underbanked”) features and effectiveness of small-dollar programs offered by FDIC-insured financial institutions.

DATES: Comments must be submitted on or before January 28, 2008.

ADDRESSES: Interested parties are invited to submit written comments on the collection of information entitled: National Survey on Banks' Efforts to Serve the Unbanked and Underbanked.

All comments should refer to the name of the collection. Comments may be submitted by any of the following methods:

• http://www.FDIC.gov/regulations/laws/federal/propose.html.

• E-mail: comments@fdic.gov. Include the name and number of the collection in the subject line of the message.

• Mail: Leneta G. Gregorie (202.898.3719), Counsel, Federal Deposit Insurance Corporation, Room F-1064, 550 17th Street, NW., Washington, DC 20429.

• Hand Delivery: Comments may be hand-delivered to the guard station at the rear of the 550 17th Street Building (located on F Street), on business days between 7 a.m. and 5 p.m.

A copy of the comments may also be submitted to the OMB Desk Officer for the FDIC, Office of Information and Regulatory Affairs, Office of Management and Budget, New Executive Office Building, Room 10235, Washington, DC 20503.

FOR FURTHER INFORMATION CONTACT: Interested members of the public may obtain additional information about the collection, including a copy of the proposed collection and related instructions without charge, by contacting Leneta G. Gregorie, at the address identified above.

SUPPLEMENTARY INFORMATION: Proposal to seek OMB approval for the following new collection of information:

Title: National Survey on Banks' Efforts to Serve the Unbanked and Underbanked.

OMB Number: 3064-NEW.

1. Survey

Frequency of Response: Once.

Affected Public: FDIC-insured depository institutions.

Estimated Number of Respondents: 865.

Estimated Time per Response: 30 minutes per respondent.

Estimated Total Annual Burden: 0.5 hours × 865 respondents + 432.5 hours.

2. Case Studies

Frequency of Response: Exploratory interview—once; in-depth interview—once.

Affected Public: 25 to 30 FDIC-insured depository institutions.

Estimated Number of Respondents: 25 to 30 FDIC-insured depository institutions.

Estimated Time per Response: Exploratory interview—1 hour; in-depth interview—2.5 hours.

Estimated Total Burden: 30 hours + 75 hours = 105 hours.

Total burden for this collection: 432.5 hours + 105 hours = 537.5 hours.

General Description of Collection: The FDIC has a number of initiatives underway to encourage practical solutions to ensure that all consumers have reasonable access to full service banking and other financial services. The FDIC believes that insured depositories can provide a path into the financial mainstream for those who need these financial services, and that depository institutions can create an array of affordable lending services to meet the needs of all their customers. Currently a large segment of the population relies on a mix of non-bank financial service providers for their needs. The FDIC is undertaking a series of analyses in this area, including the proposed National Survey of Banks' Efforts to Serve the Unbanked and Underbanked. The survey is mandated by section 7 of the Reform Act, which calls for the FDIC to conduct ongoing surveys “on efforts by insured depository institutions to bring those individuals and families who have rarely, if ever, held a checking account, a savings account or other type of transaction or check cashing account at an insured depository institution (hereafter in this section referred to as the “unbanked”) into the conventional finance system.”

In this initial survey effort, the FDIC plans to survey FDIC-insured depository institutions on their efforts to serve underbanked as well as unbanked populations. The survey will consist of two components—a questionnaire survey of a sample of FDIC-insured depository institutions and a limited number of case studies of FDIC-insured depository institutions that are employing innovative methods to serve unbanked and underbanked populations.

The Reform Act mandates that the FDIC consider the following factors and questions in conducting the survey:

“(A) To what extent do insured depository institutions promote financial education and financial literacy outreach?

“(B) Which financial education efforts appear to be the most effective in bringing ‘unbanked' individuals and families into the conventional finance system?

“(C) What efforts are insured institutions making at converting ‘unbanked' money order, wire transfer, and international remittance customers into conventional account holders?

“(D) What cultural, language and identification issues as well as transaction costs appear to most prevent ‘unbanked' individuals from establishing conventional accounts?

“(E) What is a fair estimate of the size and worth of the ‘unbanked' market in the United States?”

In addition to these mandated objectives, in its questionnaire survey of a sample of FDIC-insured depository institutions, the FDIC seeks to identify and quantify the extent to which institutions serve the needs of the unbanked and underbanked; identify the characteristics of institutions that are reaching out to and serving the unbanked and underbanked; identify efforts (for example, practices, programs, alliances) of institutions to serve the unbanked and underbanked; and identify potential barriers that affect the ability of institutions to serve the unbanked and underbanked.

The objectives of the case studies are to identify and share “best practice” programs and practices that appear to be the most effective in bringing unbanked and underbanked populations into the financial mainstream, particularly the federally-insured financial institutions. The case studies will be designed to collect information on the size and scope of programs, the nature of service offerings, program budgets, and results.

Request for Comment

Comments are invited on: (a) Whether these collections of information are necessary for the proper performance of the FDIC's functions, including whether the information has practical utility; (b) the accuracy of the estimate of the burden of the information collections, including the validity of the methodology and assumptions used; (c) ways to enhance the quality, utility, and clarity of the information to be collected; and (d) ways to minimize the burden of the information collections on respondents, including through the use of automated collection techniques or other forms of information technology. All comments will become a matter of public record.

Dated at Washington, DC, this 19th day of December, 2007.
Federal Deposit Insurance Corporation.
Valerie J. Best,
Assistant Executive Secretary.

[FR Doc. E7-24963 Filed 12-26-07; 8:45 am]

BILLING CODE 6714-01-P